DEPARTMENT OF AGRICULTURE

Forest Service

Idaho (Boise, Caribou-Targhee, Salmon-Challis, and Sawtooth National Forests and Curlew National Grassland); Nevada (Humboldt-Toiyabe National Forest); Utah (Ashley, Dixie, Fishlake, Manti-La Sal, and Uinta-Wasatch-Cache National Forests); Wyoming (Bridger-Teton National Forest); and Wyoming/Colorado (Medicine Bow-Routt National Forest and Thunder Basin National Grassland) Amendments to Land Management Plans for Greater Sage-Grouse Conservation

AGENCY: Forest Service, USDA.

ACTION: Notice of opportunity to object to the Greater Sage-Grouse Proposed Land Management Plan Amendments, Five Draft Records of Decision for National Forests in Idaho, Nevada, Utah, Wyoming, and Wyoming/Colorado.

SUMMARY: The USDA Forest Service has prepared the Final Environmental Impact Statement (EIS) for the Greater Sage-Grouse Proposed Land Management Plan Amendments (LMPA) and Five Draft Records of Decision (ROD) for National Forests in Idaho, Nevada, Utah, Wyoming, and Wyoming/Colorado. The Final EIS identifies and addresses potential impacts upon the environment of 19 National Forest System (NFS) planning units on 5.4 million acres of potential greater sage-grouse habitats. This notice is to inform the public that a 60-day period is being initiated where individuals or entities with specific concerns on the Greater Sage-Grouse Forest Plan Amendments may file an objection for a Forest Service review prior to the approval of the RODs.

DATES: The Greater Sage-Grouse draft RODs, Final EIS, and other supporting information will be available for review at https://www.fs.usda.gov/detail/r4/home/?cid=stelprd3843381 starting August 2, 2019. A legal notice of the initiation of the 60-day objection period will be published in the newspapers of record, which are the Salt Lake Tribune and the Denver Post. The date of publication of the legal notice in the newspapers of record will determine the date of initiation of the 60-day objection period.

ADDRESSES: Copies of the Final EIS and Draft RODs are available at the Intermountain Region website: https://www.fs.usda.gov/detail/r4/home/?cid=stelprd3843381. Regardless of submission method, all objections should have a subject line stating “Objection regarding the Greater Sage-Grouse Draft ROD and LMPA for NFS Land in [insert state(s)].” Objections must be submitted to the Reviewing Officer by one of the following methods:

• Electronically to the Objection Reviewing Officer via the Comment and Analysis Response Application (CARA) objection web form: https://cara.ecosystem-management.org/Public/CommentInput?project=52904. Electronic submissions must be submitted in a format (Word, PDF, or Rich Text) that is readable and searchable with optical character recognition software.

• Via fax to 801-625-5277. Faxes must be addressed to “Objection Reviewing Officer.” The fax coversheet should specify the number of pages being submitted.

• Via regular mail to the following address: USDA Forest Service, Attn: Objection Reviewing Officer, 1400 Independence Ave. SW, EMC-PEEARS, Mailstop 1104, Washington, DC 20250.

• Via carrier or hand deliveries to the following address: USDA Forest Service, Attn: Objection Reviewing Officer, 201 14th Street SW, EMC-PEEARS, Mailstop 1104, Washington, DC 20250. Office hours are Monday through Friday, 8:00 a.m. to 5:00 p.m., Eastern Time, excluding Federal holidays. Carrier deliveries may call 202-791-8488 during regular business days and hours, above, to coordinate delivery of objections.

FOR FURTHER INFORMATION CONTACT: John Shivik at 801-625-5667 or via email at john.shivik@usda.gov. Individuals who use telecommunication devices for the deaf (TDD) may call the Federal Information Relay Service (FIRS) at 1-800-877-8339 between 8:00 a.m. and 8:00 p.m., Eastern Time, Monday through Friday.

SUPPLEMENTARY INFORMATION: The USDA Forest Service, Intermountain and Rocky Mountain Regions, prepared a Forest Plan Amendment for Greater Sage-Grouse. This notice is to inform the public that a 60-day period is being initiated where individuals or entities with specific concerns on the Forest Plan Amendments may file an objection for a Forest Service review prior to the approval of the RODs for the Final EIS.

The publication date of the legal notice in the local newspapers of record will initiate the 60-day objection period and is the exclusive means for calculating the time to file an objection (36 CFR 219.52(c)(5) and 219.56(b)). An electronic scan of the notice with the publication date will be posted on the Intermountain Region's website at: https://www.fs.usda.gov/detail/r4/home/?cid=stelprd3843381.

The objection process under 36 CFR 219 subpart B provides an opportunity for members of the public who have participated in the planning process for the Greater Sage-Grouse Plan Amendments to have any unresolved concerns reviewed by the Forest Service prior to a final decision by the Responsible Officials. Only those who provided substantive formal comments during opportunities for public comment during the planning process are eligible to file an objection. Regulations at 36 CFR 219.62 define substantive formal comments as: “Written comments submitted to, or oral comments recorded by, the responsible official or his designee during an opportunity for public participation provided during the planning process, and attributed to the individual or entity providing them. Comments are considered substantive when they are within the scope of the proposal, are specific to the proposal, have a direct relationship to the proposal, and include supporting reasons for the responsible official to consider.”

How To File an Objection

The Forest Service will accept mailed, emailed, faxed, and hand-delivered objections concerning Greater Sage-Grouse Amendments for 60 calendar days following the date of the publication of the legal notice of this objection period in the newspaper of record. It is the responsibility of the objector to ensure that the Reviewing Officer receives the objection in a timely manner. The regulations prohibit extending the length of the objection filing period (36 CFR 219.56(d)).

Objections must be submitted to the Reviewing Officer, at the address shown in the ADDRESSES section of this notice. An objection must include the following (36 CFR 219.54(c)):

(1) The objector's name and address along with a telephone number or email address if available. In cases where no identifiable name is attached to an objection, the Forest Service will attempt to verify the identity of the objector to confirm objection eligibility;

(2) Signature or other verification of authorship upon request (a scanned signature for electronic mail may be filed with the objection);

(3) Identification of the lead objector, when multiple names are listed on an objection. The Forest Service will communicate to all parties to an objection through the lead objector. Verification of the identity of the lead objector must also be provided if requested;

(4) The name and State of the forest plan amendment being objected to, and the name and title of the Responsible Official;

(5) A statement of the issues and/or parts of the forest plan amendment to which the objection applies;

(6) A concise statement explaining the objection and suggesting how the proposed plan decision may be improved. If the objector believes that the forest plan amendment is inconsistent with law, regulation, or policy, an explanation should be included;

(7) A statement that demonstrates the link between the objector's prior substantive formal comments and the content of the objection, unless the objection concerns an issue that arose after the opportunities for formal comment; and

(8) All documents referenced in the objection (a bibliography is not sufficient), except that the following need not be provided:

a. All or any part of a Federal law or regulation,

b. Forest Service Directive System documents and land management plans or other published Forest Service documents,

c. Documents referenced by the Forest Service in the planning documentation related to the proposal subject to objection, and

d. Formal comments previously provided to the Forest Service by the objector during the plan amendment comment period.

Responsible Officials

The responsible officials for the Greater Sage-Grouse Plan Amendments are:

Nora Rasure

Regional Forester, Intermountain Region

Brian Ferebee

Regional Forester, Rocky Mountain Region

Dated: June 28, 2019.
Frank R. Beum,
Acting Associate Deputy Chief, National Forest System.

[FR Doc. 2019-16283 Filed 7-30-19; 8:45 am]

BILLING CODE 3411-15-P